DEPARTMENT OF COMMERCE

National Oceanic and Atmospheric Administration

50 CFR Part 300

[I.D. 112702C]

Notification of U.S. Fish Quotas and an Effort Allocation in the Northwest Atlantic Fisheries Organization (NAFO) Regulatory Area; Correction

AGENCY: National Marine Fisheries Service (NMFS), National Oceanic and Atmospheric Administration (NOAA), Commerce.

ACTION: Notification of U.S. fish quotas and an effort allocation; correction.

SUMMARY: This document corrects the notification of U.S. fish quotas and an effort allocation published in the Federal Register on December 4, 2002.

FOR FURTHER INFORMATION CONTACT: Patrick E. Moran, 301-713-2276.

SUPPLEMENTARY INFORMATION:

Need for Correction

An incorrect date was was published under the DATES heading of the notification of U.S. quota allocations and an effort allocation, FR Doc 02-30751, in the issue of December 4, 2002 (67 FR 72110). That document is corrected to read as follows:

On page 72110, column 2, line 8 “January 3, 2004” is corrected to read “January 24, 2003”.

Dated: January 6, 2003.
John H. Dunnigan,
Director, Office of Sustainable Fisheries, National Marine Fisheries Service.

[FR Doc. 03-522 Filed 1-9-03; 8:45 am]

BILLING CODE 3510-22-S